DEPARTMENT OF HEALTH AND HUMAN SERVICES

Food and Drug Administration

Advisory Committees; Filing of Annual Reports

AGENCY: Food and Drug Administration, HHS.

ACTION: Notice.

SUMMARY: The Food and Drug Administration (FDA) is announcing that, as required by the Federal Advisory Committee Act, the agency has filed with the Library of Congress the annual reports of those FDA advisory committees that held closed meetings.

ADDRESSES: Copies of the annual reports are available from the Dockets Management Branch (HFA-305), Food and Drug Administration, 5630 Fishers Lane, rm. 1061, Rockville, MD 20852, 301-827-6860.

FOR FURTHER INFORMATION CONTACT: Linda Ann Sherman, Advisory Committee Oversight and Management Staff (HF-4), Food and Drug Administration, 5600 Fishers Lane, Rockville, MD 20857, 301-827-1220.

SUPPLEMENTARY INFORMATION: Under section 13 of the Federal Advisory Committee Act (5 U.S.C. App. 2) and 21 CFR 14.60 (c), FDA has filed with the Library of Congress the annual reports for the following FDA advisory committees that held closed meetings during the period October 1, 1998, through September 30, 1999:

Center for Biologics Evaluation and Research:

Allergenic Products Advisory Committee,

Biological Response Modifiers Advisory Committee, and

Vaccines and Related Biological Products Advisory Committee.

Center for Drug Evaluation and Research:

Antiviral Drugs Advisory Committee,

Arthritis Advisory Committee,

Dermatologic and Ophthalmic Drugs Advisory Committee,

Drug Abuse Advisory Committee, and

Oncologic Drugs Advisory Committee.

Center for Devices and Radiological Health:

Medical Devices Advisory Committee.

National Center for Toxicological Research:

Science Advisory Board to the National Center for Toxicological Research.

Science Board to the Food and Drug Administration.

Annual reports have also been filed for the following FDA advisory committees that held closed meetings during the period October 1, 1999, through September 30, 2000:

Center for Biologics Evaluation and Research:

Biological Response Modifiers Advisory Committee,

Blood Products Advisory Committee,

Transmissible Spongiform Encephalopathies Advisory Committee, and

Vaccines and Related Biological Products Advisory Committee.

Center for Drug Evaluation and Research:

Antiviral Drugs Advisory Committee,

Arthritis Advisory Committee, and

Dermatologic and Ophthalmic Drugs Advisory Committee.

Center for Devices and Radiological Health:

Medical Devices Advisory Committee.

National Center for Toxicological Research:

Science Advisory Board to the National Center for Toxicological Research.

Annual reports are available for public inspection at: (1) The Library of Congress, Madison Bldg., Newspaper and Current Periodical Reading Room, 101 Independence Ave. SE., rm. 133, Washington, DC; and (2) the Dockets Management Branch (HFA-305), Food and Drug Administration, 5630 Fishers Lane, rm. 1061, Rockville, MD 20852, between 9 a.m. and 4 p.m., Monday through Friday.

Dated: April 8, 2002.
Linda A. Suydam,
Senior Associate Commissioner for Communications and Constituent Relations.

[FR Doc. 02-9813 Filed 4-22-02; 8:45 am]

BILLING CODE 4160-01-S